DEPARTMENT OF DEFENSE

Department of the Army

Notice of Availability (NOA) of the Final Environmental Impact Statement (FEIS) in Support of New Facilities for the U.S. Army Medical Research Institute of Infectious Diseases (USAMRIID), Fort Detrick, MD

AGENCY: U.S. Army Medical Research and Material Command, Department of the Army, DoD.

ACTION: Notice of availability.

SUMMARY: The U.S. Army announces the availability of an FEIS which evaluates the potential environmental impacts of the construction and operation of new USAMRIID facilities and the decommissioning and demolition and/or re-use of existing USAMRIID facilities at Fort Detrick.

DATES: The waiting period for the FEIS will end 30 days after publication of the NOA in the Federal Register by the U.S. Environmental Protection Agency.

FOR FURTHER INFORMATION CONTACT: Caree Vander Linden, USAMRIID Public Affairs, 1425 Porter Street, Fort Detrick, MD 21702-5011; telephone (301) 619-2285; fax: (301) 619-4625, or through the public USAMRIID EIS Web site at http://www.usamriid.army.mil/eis.

SUPPLEMENTARY INFORMATION: The Proposed Action and subject of the EIS is the construction and operation of new USAMRIID facilities and the decommissioning and demolition and/or re-use of existing USAMRIID facilities at Fort Detrick.

The proposed new USAMRIID facilities would provide biocontainment laboratory space, animal facilities, and administrative offices, as well as operational and administrative support facilities. These new facilities would be located adjacent to the existing USAMRIID facilities within the National Interagency Biodefense Campus on Area A of Fort Detrick and near the biomedical research facilities of mission partners, including the Agricultural Research Service Foreign Disease-Weed Research Unit of the U.S. Department of Agriculture, the National Institute of Allergy and Infectious Diseases' Integrated Research Facility, and the Department of Homeland Security's National Biodefense Analysis and Countermeasures Center. The existing USAMRIID facilities on Area A would be decommissioned and either demolished and/or re-used following occupancy of the new USAMRIID facilities.

The construction would occur in two stages. Stage 1 would provide approximately 700,000 gross square feet (gsf) of new building space for the replacement of outdated and compressed existing USAMRIID facilities in order to sustain the current mission and to expand medical test and evaluation (T&E) capacity in support of immediate Department of Defense (DoD) and national demand. Stage 2 would encompass approximately 400,000 gsf of new building space for the balance of USAMRIID's expanded mission and for additional capacity to meet intensified national requirements for medical test and evaluation in support of biodefense research as well as to accommodate increased collaborative efforts among USAMRIID's mission partners. In addition, approximately 200,000 gsf of the existing USAMRIID facilities may be renovated and re-used for laboratory or non-laboratory use, to be determined by evolving biodefense requirements.

The significant issues analyzed in the FEIS included: Safety of laboratory operations and demolition of the existing biocontainment laboratories; public health and safety; handling, collection, treatment, and disposal of research wastes; water supply and other utility requirements; traffic; pollution prevention; and analysis of other risks to include discussion of the risk of terrorist attack. In addition, possible adverse health and safety impacts on laboratory workers in the proposed new USAMRIID facilities and on nearby residents during the operational phase of the project were identified and evaluated. The risks were deemed to be negligible and mitigable through adherence to “Biosafety in Microbiological and Biomedical Laboratories” (BMBL) and other standards for safe operational practices.

Three alternatives were considered: Construction and Operation of New USAMRIID Facilities and Decommissioning and Demolition of the Existing USAMRIID Facilities on Area A of Fort Detrick, Maryland (Alternate I), Construction and Operation of New USAMRIID Facilities and Decommissioning and Partial Demolition of the Existing USAMRIID Facilities and Re-Use of the Remaining Facilities on Area A of Fort Detrick, Maryland (Alternate II), and the No Action Alternative, under which the proposed new USAMRIID facilities would not be built and operated and the existing USAMRIID facilities would not be decommissioned and demolished and/or re-used.

Following the end of the 30-day waiting period, a decision will be made by the U.S. Army as to which of the alternatives will be implemented. This decision will be based on consideration of a number of factors. These factors include, but are not limited to, environmental considerations, laws and regulations, mission needs (at Fort Detrick as well as from a national perspective), budget considerations, schedule, and public concerns. A Record of Decision will then be executed.

Dated: December 18, 2006.
Addison D. Davis, IV,
Deputy Assistant Secretary of the Army, (Environment, Safety and Occupational Health).

[FR Doc. 06-9837 Filed 12-28-06; 8:45 am]

BILLING CODE 3710-08-M